ENVIRONMENTAL PROTECTION AGENCY

40 CFR Part 52

[GA-200533; FRL-8022-4]

Approval and Promulgation of Air Quality Implementation Plans; Georgia Update to Materials Incorporated by Reference

AGENCY: Environmental Protection Agency (EPA).

ACTION: Final rule; notice of administrative change.

SUMMARY: EPA is publishing this action to provide the public with notice of the update to the Georgia State Implementation Plan (SIP) compilation. In particular, materials submitted by Georgia that are incorporated by reference (IBR) into the Georgia SIP are being updated to reflect EPA-approved revisions to Georgia's SIP that have occurred since the last update.

DATES: This action is effective February 28, 2006.

ADDRESSES: SIP materials which are incorporated by reference into 40 CFR part 52 are available for inspection at the following locations: Environmental Protection Agency, Region 4, 61 Forsyth Street, SW., Atlanta, GA 30303; the EPA, Air and Radiation Docket and Information Center, Air Docket (Mail Code 6102T), 1200 Pennsylvania Avenue, NW., Washington, DC 20460, and the National Archives and Records Administration. For information on the availability of this material at NARA, call 202-741-6030, or go to: http://www.archives.gov/federal_register/code_of_federal_regulations/ibr_locations.html.

FOR FURTHER INFORMATION CONTACT: Ms. Stacy Difrank at the above Region 4 address or at (404) 562-9042. E-mail: difrank.stacy@epa.gov.

SUPPLEMENTARY INFORMATION: Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the SIP to EPA. Once these control measures and strategies are approved by EPA, after notice and comment, they are incorporated into the federally approved SIP and are identified in part 52 “Approval and Promulgation of Implementation Plans,” Title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on SIP revisions containing new and/or revised regulations as being part of the SIP. On May 22, 1997, (62 FR 27968), EPA revised the procedures for incorporating by reference, into the Code of Federal Regulations, materials submitted by states in their EPA-approved SIP revisions. These changes revised the format for the identification of the SIP in 40 CFR part 52, stream-lined the mechanisms for announcing EPA approval of revisions to a SIP, and stream-lined the mechanisms for EPA's updating of the IBR information contained for each SIP in 40 CFR part 52. The revised procedures also called for EPA to maintain “SIP Compilations” that contain the federally-approved regulations and source specific permits submitted by each state agency. These SIP Compilations are contained in 3-ring binders and are updated primarily on an annual basis. Under the revised procedures, EPA is to periodically publish an informational document in the rules section of the Federal Register when updates are made to a SIP Compilation for a particular state. EPA's 1997 revised procedures were formally applied to Georgia on May 21, 1999 (64 FR 27699).

This action represents EPA's publication of the Georgia SIP Compilation update, appearing in 40 CFR part 52.

EPA has determined that today's action falls under the “good cause” exemption in the section 553(b)(3)(B) of the Administrative Procedure Act (APA) which, upon finding “good cause,” authorizes agencies to dispense with public participation and section 553(d)(3) which allows an agency to make an action effective immediately (thereby avoiding the 30-day delayed effective date otherwise provided for in the APA). Today's administrative action simply codifies provisions which are already in effect as a matter of law in Federal and approved state programs. Under section 553 of the APA, an agency may find good cause where procedures are “impractical, unnecessary, or contrary to the public interest.” Public comment for this administrative action is “unnecessary” and “contrary to the public interest” since the codification only reflect existing law. Immediate notice of this action in the Federal Register benefits the public by providing the public notice of the updated Georgia SIP Compilation.

Statutory and Executive Order Reviews

A. General Requirements

Under Executive Order 12866 (58 FR 51735, October 4, 1993), this administrative action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the APA or any other statute as indicated in the Supplementary Information section above, it is not subject to the regulatory flexibility provisions of the Regulatory Flexibility Act (5 U.S.C. 601 et seq.), or to sections 202 and 205 of the Unfunded Mandates Reform Act (UMRA) of 1995 (Pub. L. 104-4). In addition, this action does not significantly or uniquely affect small governments or impose a significant intergovernmental mandate, as described in sections 203 and 204 of UMRA. This administrative action also does not have a substantial direct effect on one or more Indian tribes, on the relationship between the Federal government and Indian tribes, or on the distribution of power and responsibilities between the Federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This administrative action also is not subject to Executive Order 13045 (62 FR 19885, April 23, 1997), because it is not economically significant. This administrative action does not involve technical standards; thus the requirements of section 12(d) of the National Technology Transfer and Advancement Act of 1995 (15 U.S.C. 272 note) do not apply. The administrative action also does not involve special consideration of environmental justice related issues as required by Executive Order 12898 (59 FR 7629, February 16, 1994). This administrative action does not impose an information collection burden under the Paperwork Reduction Act of 1995 (44 U.S.C. 3501 et seq.). EPA's compliance with these Statutes and Executive Orders for the underlying rules are discussed in previous actions taken on the State's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's administrative action simply codifies provisions which are already in effect as a matter of law in Federal and approved state programs. 5 U.S.C. 808(2). These announced actions were effective when EPA approved them through previous rulemaking actions. EPA will submit a report containing this action and other required information to the U.S. Senate, the U.S. House of Representatives, and the Comptroller General of the United States prior to publication of this action in the Federal Register. This update to Georgia's SIP Compilation is not a “major rule” as defined by 5 U.S.C. 804(2).

C. Petitions for Judicial Review

EPA has also determined that the provisions of section 307(b)(1) of the Clean Air Act pertaining to petitions for judicial review are not applicable to this action. This action is simply an announcement of prior rulemakings that have previously undergone notice and comment rulemaking. Prior EPA rulemaking actions for each individual component of the Georgia SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 6, 2006.
A. Stanley Meiburg,
Acting Regional Administrator, Region 4.

40 CFR part 52 is amended as follows:

PART 52—[AMENDED]

1. The authority for citation for part 52 continues to read as follows:

Authority: 42 U.S.C. 7401 et seq.

Subpart L—Georgia

2. Section 52.570 is amended by revising paragraph (b) and (c) to read as follows:

52.570 Identification of plan.

* * * * *

(b) Incorporation by reference.

(1) Material listed in paragraph (c) of this section with an EPA approval date prior to July 1, 2005, and paragraph (d) with an EPA approval date prior to April 10, 2003, was approved for incorporation by reference by the Director of the Federal Register in accordance with 5 U.S.C. 552(a) and 1 CFR part 51. Material is incorporated as it exists on the date of the approval, and notice of any change in the material will be published in the Federal Register. Entries in paragraph (c) of this section with EPA approval dates after July 1, 2005, and paragraph (d) with an EPA approval date after April 10, 2003, will be incorporated by reference in the next update to the SIP compilation.

(2) EPA Region 4 certifies that the rules/regulations provided by EPA in the SIP compilation at the addresses in paragraph (b)(3) are an exact duplicate of the officially promulgated State rules/regulations which have been approved as part of the state implementation plan as of July 1, 2005.

(3) Copies of the materials incorporated by reference may be inspected at the Region 4 EPA Office at 61 Forsyth Street, SW., Atlanta, GA 30303; the EPA, Air and Radiation Docket and Information Center, Air Docket, 1301 Constitution Avenue NW., Room B102, Washington, DC 20460; or at the National Archives and Records Administration (NARA). For information on the availability of this material at NARA, call 202-741-6030, or go to: http://www.archives.gov/federal_ register/code_of_ federal_regulations/ibr_locations.html

(c) EPA approved regulations.

EPA Approved Georgia Regulations
State citation | Title/subject | State effective date | EPA approval date | Explanation
391-3-1-.01 | Definitions | 12/03/02 | 7/09/03 68 FR 40786
391-3-1-.02 | Provisions
391-3-1-.02(1) | General Requirements | 03/20/79 | 09/18/79 44 FR 54047
391-3-1.02(2) | Emission Standards | 06/23/96 | 06/27/96 61 FR 33372
391-3-1-.02(2)(a) | General Provisions | 01/09/91 | 01/26/93 58 FR 6093
391-3-1-.02(2)(b) | Visible Emissions | 01/17/79 | 09/18/79 44 FR 54047
391-3-1-.02(2)(c) | Incinerators | 06/15/98 | 12/02/99 64 FR 67491
391-3-1-.02(2)(d) | Fuel-burning Equipment | 01/17/79 | 09/18/79 44 FR 54047
391-3-1-.02(2)(e) | Particulate Emission from Manufacturing Processes | 01/17/79 | 09/18/79 44 FR 54047
391-3-1-.02(2)(f) | Normal Superphosphate Manufacturing Facilities | 01/17/79 | 09/18/79 44 FR 54047
391-3-1-.02(2)(g) | Sulfur Dioxide | 07/17/02 | 07/09/03 68 FR 40789
391-3-1-.02(2)(h) | Portland Cement Plants | 01/17/79 | 09/18/79 44 FR 54047
391-3-1-.02(2)(i) | Nitric Acid Plants | 01/17/79 | 09/18/79 44 FR 54047
391-3-1-.02(2)(j) | Sulfuric Acid Plants | 01/17/79 | 09/18/79 44 FR 54047
391-3-1-.02(2)(k) | Particulate Emission from Asphaltic Concrete Hot Mix Plants | 01/17/79 | 09/18/79 44 FR 54047
391-3-1-.02(2)(l) | Conical Burners | 01/17/79 | 09/18/79 44 FR 54047
391-3-1-.02(2)(m) | repealed | 06/30/75 | 10/03/75 40 FR 45818
391-3-1-.02(2)(n) | Fugitive Dust | 01/17/79 | 09/18/79 44 FR 54047
391-3-1-.02(2)(o) | Cupola Furnaces for Metallurgical Melting | 01/27/72 | 05/31/72 37 FR 10842
391-3-1-.02(2)(p) | Particulate Emissions from Kaolin and Fuller's Earth Processes | 12/16/75 | 08/20/76 41 FR 35184
391-3-1-.02(2)(q) | Particulate Emissions from Cotton Gins | 01/27/72 | 05/31/72 37 FR 10842
391-3-1-.02(2)(r) | Particulate Emissions from Granular and Mixed Fertilizer Manufacturing Units | 01/27/72 | 05/31/72 37 FR 10842
391-3-1-.02(2)(t) | VOC Emissions from Automobile and Light Duty Truck Manufacturing | 12/20/94 | 02/02/96 61 FR 3817
391-3-1-.02(2)(u) | VOC Emissions from Can Coating | 01/09/91 | 10/13/92 57 FR 46780
391-3-1-.02(2)(v) | VOC Emissions from Coil Coating | 01/09/91 | 10/13/92 57 FR 46780
391-3-1-.02(2)(w) | VOC Emissions from Paper Coating | 01/09/91 | 10/13/92 57 FR 46780
391-3-1-.02(2)(x) | VOC Emissions from Fabric and Vinyl Coating | 01/09/91 | 10/13/92 57 FR 46780
391-3-1-.02(2)(y) | VOC Emissions from Metal Furniture Coating | 01/09/91 | 10/13/92 57 FR 46780
391-3-1-.02(2)(z) | VOC Emissions from Large Appliance Surface Coating | 01/09/91 | 10/13/92 57 FR 46780
391-3-1-.02(2)(aa) | VOC Emissions from Wire Coating | 01/09/91 | 10/13/92 57 FR 46780
391-3-1-.02(2)(bb) | Petroleum Liquid Storage | 01/09/91 | 10/13/92 57 FR 46780
391-3-1-.02(2)(cc) | Bulk Gasoline Terminals | 01/09/91 | 10/13/92 57 FR 46780
391-3-1-.02(2)(dd) | Cutback Asphalt | 01/17/79 | 09/18/79 44 FR 54047
391-3-1-.02(2)(ee) | Petroleum Refinery | 01/09/91 | 10/13/92 57 FR 46780
391-3-1-.02(2)(ff) | Solvent Metal Cleaning | 05/29/96 | 04/26/99 64 FR 20186
391-3-1-.02(2)(gg) | Kraft Pulp Mills | 06/03/88 | 09/30/88 53 FR 38290
391-3-1-.02(2)(hh) | Petroleum Refinery Equipment Leaks | 06/24/94 | 02/02/96 61 FR 3817
391-3-1-.02(2)(ii) | VOC Emissions from Surface Coating of Miscellaneous Metal Parts and Products | 10/7/99 | 7/10/01 66 FR 35906
391-3-1-.02(2)(jj) | VOC Emissions from Surface Coating of Flat Wood Paneling | 04/03/91 | 10/13/92 57 FR 46780
391-3-1-.02(2)(kk) | VOC Emissions from Synthesized Pharmaceutical Manufacturing | 12/18/80 | 11/24/81 46 FR 57486
391-3-1-.02(2)(ll) | VOC Emissions from the Manufacture of Pneumatic Rubber Tires | 12/18/80 | 11/24/81 46 FR 57486
391-3-1-.02(2)(mm) | VOC Emissions from Graphic Arts Systems | 04/03/91 | 10/13/92 57 FR 46780
391-3-1-.02(2)(nn) | VOC Emissions from External Floating Roof Tanks | 12/18/80 | 11/24/81 46 FR 57486
391-3-1-.02(2)(oo) | Fiberglass Insulation Manufacturing Plants | 12/18/80 | 11/24/81 46 FR 57486
391-3-1-.02(2)(pp) | Bulk Gasoline Plants | 04/03/91 | 10/13/92 57 FR 46780
391-3-1-.02(2)(qq) | VOC Emissions from Large Petroleum Dry Cleaners | 04/03/91 | 10/13/92 57 FR 46780
391-3-1-.02(2)(rr) | Gasoline Dispensing Facility—Stage I | 12/26/01 | 7/11/02 67 FR 45909
391-3-1-.02(2)(ss) | Gasoline Transport Vehicles and Vapor Collection Systems | 12/26/01 | 7/11/02 67 FR 45909
391-3-1-.02(2)(tt) | VOC Emissions from Major Sources | 2/16/00 | 7/10/01 66 FR 35906
391-3-1-.02(2)(uu) | Visibility Protection | 10/31/85 | 01/28/86 51 FR 3466
391-3-1-.02(2)(vv) | Volatile Organic Liquid Handling and Storage | 2/16/00 | 7/10/01 66 FR 35906
391-3-1-.02(2)(ww) | Perchloroethylene Dry Cleaners | 11/15/94 | 06/27/96 61 FR 33372 | Repealed.
391-3-1-.02(2)(yy) | Emissions of Nitrogen Oxides from Major Sources | 7/08/04 | 5/09/05 70 FR 24310
391-3-1-.02(2)(zz) | Gasoline Dispensing Facilities—Stage II | 12/26/01 | 7/11/02 67 FR 45909
391-3-1-.02(2)(aaa) | Consumer and Commercial Products | 10/27/93 | 04/26/99 64 FR 20186
391-3-1-.02(2)(bbb) | Gasoline Marketing | 6/24/03 | 6/17/04 69 FR 33864
391-3-1-.02(2)(ccc) | VOC Emissions from Bulk Mixing Tanks | 2/16/00 | 7/10/01 66 FR 35906
391-3-1-.02(2)(ddd) | VOC Emissions from Offset Lithography | 2/16/00 | 7/10/01 66 FR 35906
391-3-1-.02(2)(eee) | VOC Emissions from Expanded Polystyrene Products Manufacturing | 2/16/00 | 7/10/01 66 FR 35906
391-3-1-.02(2)(fff) | Particulate Matter Emissions from Yarn Spinning Operations | 06/15/98 | 12/02/99 64 FR 67491
391-3-1-.02(2)(hhh) | Wood Furniture Finishing and Cleaning Operations | 2/16/00 | 7/10/01 66 FR 35906
391-3-1-.02(2)(jjj) | NOX Emissions from Electric Utility Steam Generating Units | 7/17/02 | 07/09/03 68 FR 40789
391-3-1-.02(2)(kkk) | VOC Emissions from Aerospace Manufacturing and Rework Facilities | 2/16/00 | 7/10/01 66 FR 35906
391-3-1-.02(2)(lll) | NOX Emissions from Fuel-burning Equipment | 2/16/00 | 7/10/01 66 FR 35906
391-3-1-.02(2)(mmm) | NOX Emissions from Stationary Gas Turbines and Stationary Engines used to Generate Electricity | 2/16/00 | 7/10/01 66 FR 35906
391-3-1-.02(2)(nnn) | NOX Emissions from Large Stationary Gas Turbines | 2/16/00 | 7/10/01 66 FR 35906
391-3-1-.02(2)(ooo) | Heavy-Duty Diesel Engine Requirements | 12/28/01 | 7/11/02 67 FR 45909
391-3-1-.02(2)(3) | Sampling | 06/15/98 | 12/02/99 64 FR 67491
391-3-1-.02(2)(4) | Ambient Air Standards | 01/09/91 | 12/14/92 57 FR 58989
391-3-1-.02(2)(5) | Open Burning | 8/16/00 | 7/10/01 66 FR 35906
391-3-1-.02(2)(6) | Source Monitoring | 12/28/00 | 7/11/02 67 FR 45909
391-3-1-.02(2)(7) | Prevention of Significant Deterioration of Air Quality (PSD) | 06/15/98 | 12/02/99 64 FR 67491
391-3-.02(2)(11) | Compliance Assurance Monitoring | 06/15/98 | 12/02/99 64 FR 67491
391-3-1-.03 | Permits | 7/8/04 | 5/09/05 70 FR 24310 | Paragraph (9) Permit Fees; Paragraph (10) Title V Operating Permits are not federally approved.
391-3-1-.04 | Air Pollution Episodes | 11/20/75 | 08/20/76 41 FR 35184
391-3-1-.05 | Regulatory Exceptions | 11/22/92 | 02/02/96 61 FR 3819
391-3-1-.07 | Inspections and Investigations | 11/20/75 | 08/20/76 41 FR 35184
391-3-1-.08 | Confidentiality of information | 11/20/75 | 08/20/76 41 FR 35184
391-3-1-.09 | Enforcement | 11/22/92 | 02/02/96 61 FR 3819
391-3-1-.10 | Continuance of Prior Rules | 11/22/92 | 02/02/96 61 FR 3819
391-3-20 | Enhanced Inspection and Maintenance | 12/25/03 | 4/12/05 70 FR 18991
391-3-22 | Clean Fueled Fleets | 06/15/98 | 12/02/99 64 FR 67491

* * * * *

[FR Doc. 06-1789 Filed 2-27-06; 8:45 am]

BILLING CODE 6560-50-P